DEPARTMENT OF TRANSPORTATION

Federal Transit Administration

[FTA Docket No. FTA-2002-1617]

Notice of Request for Revision of a Currently Approved Information Collection

AGENCY: Federal Transit Administration, DOT.

ACTION: Notice of request for comments.

SUMMARY: In accordance with the Paperwork Reduction Act of 1995, this notice announces the intention of the Federal Transit Administration (FTA) to request the Office of Management and Budget (OMB) to revise the following currently approved information collection: Customer Service Surveys.

DATES: Comments must be submitted before April 23, 2002.

ADDRESSES: All written comments must refer to the docket number that appears at the top of this document and be submitted to the United States Department of Transportation, Central Dockets Office, PL-401, 400 Seventh Street, SW., Washington, DC 20590. All comments received will be available for examination at the above address from 10 a.m. to 5 p.m., e.t., Monday through Friday, except Federal holidays. Those desiring notification of receipt of comments must include a self-addressed, stamped postcard/envelope.

FOR FURTHER INFORMATION CONTACT: Ms. Yvonne Griffin, Office of Budget and Policy, (202) 366-1727.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Customer Service Surveys (OMB Number: 2132-0559).

Background: Executive Order 12862, “Setting Customer Service Standards,” requires FTA to identify its customers and determine what they think about FTA's service. The surveys covered in this request for a blanket clearance will provide FTA with a means to gather data directly from its customers. The information obtained from the surveys will be used to assess the kind and quality of services customers want and their level of satisfaction with existing services. The surveys will be limited to data collection that solicit voluntary opinions and will not involve information that is required by regulations.

Respondents: State and local government, public transit operators, Metropolitan Planning Organizations (MPOs), transit constituents, transit manufacturers, and private transit operators.

Estimated Annual Burden on Respondents: Varies according to survey.

Estimated Total Annual Burden: 2,035 hours.

Frequency: Annual.

Issued: February 19, 2002.
Dorrie Y. Aldrich,
Associate Administrator for Administration.

[FR Doc. 02-4283 Filed 2-21-02; 8:45 am]

BILLING CODE 4910-57-M